DEPARTMENT OF EDUCATION

[Docket ID ED-2020-FSA-0145]

Privacy Act of 1974; Matching Program

AGENCY: Federal Student Aid, Department of Education.

ACTION: Notice of a New Matching Program.

SUMMARY: Pursuant to the Privacy Act of 1974, as amended by the Computer Matching and Privacy Protection Act of 1988 and the Computer Matching and Privacy Protections Amendments of 1990 (Privacy Act), and Office of Management and Budget (OMB) guidance on the conduct of matching programs, notice is hereby given of the re-establishment of the matching program between the Department of Education (ED or Department) (recipient agency) and the Social Security Administration (SSA) (source agency) to assist the Department in its obligation to ensure that applicants for student financial assistance under title IV of the Higher Education Act of 1965, as amended (HEA), satisfy eligibility requirements.

DATES: The period of this matching program is estimated to cover the 18-month period from April 11, 2021 through October 10, 2022. However, the computer matching agreement (CMA) will become applicable at the later of the following two dates: April 11, 2021, or 30 days after the publication of this notice, on March 8, 2021, unless comments have been received from interested members of the public requiring modification and republication of the notice. The matching program will continue for 18 months after the applicable date and may be extended for up to an additional 12 months, if the respective agency Data Integrity Boards (DIBs) determine that the conditions specified in 5 U.S.C. 552a(o)(2)(D) have been met.

ADDRESSES: Submit your comments through the Federal eRulemaking Portal or via postal mail, commercial delivery, or hand delivery. We will not accept comments submitted by fax or by email or those submitted after the comment period. To ensure that we do not receive duplicate copies, please submit your comments only once. In addition, please include the Docket ID at the top of your comments.

• Federal eRulemaking Portal: Go to www.regulations.gov to submit your comments electronically. Information on using Regulations.gov, including instructions for accessing agency documents, submitting comments, and viewing the docket, is available on the site under the “help” tab.

• Postal Mail, Commercial Delivery, or Hand Delivery: If you mail or deliver your comments about this new matching program, address them to: Gerard Duffey, Management and Program Analyst, Wanamaker Building, U.S. Department of Education, Federal Student Aid, 100 Penn Square East, Suite 509.B10, Philadelphia, PA 19107. Telephone: (215) 656-3249.

Privacy Note: The Department's policy is to make all comments received from members of the public available for public viewing in their entirety on the Federal eRulemaking Portal at www.regulations.gov. Therefore, commenters should be careful to include in their comments only information that they wish to make publicly available.

FOR FURTHER INFORMATION CONTACT: Gerard Duffey, Management and Program Analyst, Wanamaker Building, U.S. Department of Education, Federal Student Aid, 100 Penn Square East, Suite 509.B10, Philadelphia, PA 19107. Telephone: (215) 656-3249.

SUPPLEMENTARY INFORMATION: In accordance with the Privacy Act; OMB Final Guidance Interpreting the Provisions of Public Law 100-503, the Computer Matching and Privacy Protection Act of 1988, published in the Federal Register on June 19, 1989 (54 FR 25818); and OMB Circular No. A-108, notice is hereby provided of the re-establishment of the matching program between SSA and ED to assist ED in the verification of Social Security numbers (SSNs) and confirmation of citizenship status as recorded in SSA records in order to verify the eligibility of applicants for student financial assistance under title IV of the HEA.

Participating Agencies

ED and SSA.

Authority for Conducting the Matching Program

ED is authorized to participate in the matching program under sections 428B(f) (20 U.S.C. 1078-2(f)), 483(a)(12) (20 U.S.C. 1090(a)(12)), 484(g) (20 U.S.C. 1091(g)), and 484(p) (20 U.S.C. 1091(p)) of the HEA.

SSA is authorized to participate in the matching program under section 1106 of the Social Security Act (42 U.S.C. 1306)) and the regulations promulgated pursuant to that section (20 CFR part 401). Section 7213 of the Intelligence Reform and Terrorism Prevention Act of 2004 provides SSA authority to add a death indicator to verification routines that SSA determines to be appropriate.

The legal authority for ED and SSA to disclose information under the matching program also includes subsection (b)(3) of the Privacy Act ((5 U.S.C. 552a(b)(3)).

Purpose(s)

The purpose of this matching program between ED and SSA is to assist the Secretary of Education with verification of immigration status and SSNs under 20 U.S.C. 1091(g) and (p). SSA will verify the issuance of an SSN and a date of death (if applicable) to students and the parent(s) of dependent students, and will confirm the citizenship status of those students applying for financial assistance programs authorized under title IV of the HEA. Verification of this information by SSA will help ED satisfy its obligation to ensure that individuals applying for financial assistance meet eligibility requirements of the HEA.

Verification by this matching program effectuates the purpose of the HEA because it provides an efficient and comprehensive method of verifying the accuracy of each individual's SSN, date of death if applicable, and claim to a citizenship status that permits that individual to qualify for title IV, HEA assistance.

Categories of Individuals

ED's systems of records involved in the matching program maintain information on individuals who apply for Federal student financial assistance through the Free Application for Federal Student Aid (FAFSA) and on individuals who apply to receive Person Authentication Service (PAS) Credentials, a user ID, and a password to electronically access their FAFSA record.

SSA's system of records involved in the matching program maintains records about each individual who has applied for, and obtained, an SSN.

Categories of Records

ED's systems of records involved in the matching program contain (1) the information to determine an applicant's eligibility for Federal student financial assistance, and (2) the applicant's information to receive PAS Credentials, a user ID, and a password. The specific data elements that ED will transmit to SSA are: students' and parent(s) of dependent students' SSN, first name, last name, and date of birth (DOB).

SSA's system of records involved in the matching program maintains information required to apply for, and obtain, an SSN. The specific data elements that SSA will send back to ED include: SSN, first name, last name, DOB, and an SSA verification code on each record to indicate the match results. The verification codes are: 1 = No match on SSN, 3 = SSN match, name match, no match on DOB, 5 = SSN match, no match on name, DOB not checked, 6 = SSN not verified, Blank = SSN match, name match, DOB match. SSA will also send a date of death if one is present on SSA's database for the record. Records returned from SSA also will include a citizenship status code as follows: A = U.S. citizen, B = legal alien, eligible to work, C = legal alien, not eligible to work, D = other, E = alien, student restricted, F = conditionally legalized alien, * = foreign born, Blank = domestic born (U.S. citizen), N = unable to verify citizenship due to no match on name, DOB, or SSN.

System(s) of Records

There are two ED systems of records involved in the disclosure of information from ED to SSA in this matching program. The first is entitled, “Federal Student Aid Application File” (18-11-01), last published in the Federal Register on October 29, 2019 (84 FR 57856). (See https://www2.ed.gov/notices/ed-pia.html#fsa) (Note: the ED Central Processing System (CPS) is the ED information system that processes data from the Federal Student Aid Application File). The second is entitled, “Person Authentication Service (PAS)” (18-11-12) published in the Federal Register on March 20, 2015 (80 FR 14981). In addition, ED will maintain the information that it receives back from SSA in the foregoing ED systems of records and in the Common Origination and Disbursement (COD) system of records (18-11-02), which was last published in the Federal Register on August 16, 2019 (84 FR 41979). (See https://www.federalregister.gov/documents/2019/08/16/2019-17615/privacy-act-of-1974-system-of-records.)

SSA's system of records involved in this matching program is entitled, “Master Files of Social Security Number (SSN) Holders and SSN Applications” (Enumeration System) 60-0058, last published in the Federal Register on December 29, 2010 (75 FR 82121), July 5, 2013 (78 FR 40542), February 13, 2014 (79 FR 8780), July 3, 2018 (83 FR 31250), and November 1, 2018 (83 FR 54969).

Accessible Format: Individuals with disabilities can obtain this document in an accessible format (e.g., braille, large print, or audiotape) by contacting the contact person listed in the preceding paragraph.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Mark Brown,
Chief Operating Officer Federal Student Aid.

[FR Doc. 2021-04710 Filed 3-5-21; 8:45 am]

BILLING CODE 4000-01-P